DEPARTMENT OF HOMELAND SECURITY

[DHS Docket No. ICEB-2015-0003]

RIN 1653-ZA11

Extension of Employment Authorization for Nepali F-1 Nonimmigrant Students Experiencing Severe Economic Hardship as a Direct Result of the April 25, 2015 Earthquake in the Federal Democratic Republic of Nepal

AGENCY: U.S. Immigration and Customs Enforcement (ICE), DHS.

ACTION: Notice.

SUMMARY: This notice informs the public of the extension of an earlier notice, which suspended certain requirements for F-1 nonimmigrant students whose country of citizenship is the Federal Democratic Republic of Nepal (Nepal) and who are experiencing severe economic hardship as a direct result of the earthquake in Nepal on April 25, 2015. This notice extends the effective date of that earlier notice. These students will continue to be allowed to apply for employment authorization, work an increased number of hours while school is in session provided that they satisfy the minimum course load requirement, while continuing to maintain their F-1 student status until June 24, 2018.

DATES: This notice is effective December 27, 2016 and will remain in effect through June 24, 2018.

FOR FURTHER INFORMATION CONTACT: Louis Farrell, Director, Student and Exchange Visitor Program; MS 5600, U.S. Immigration and Customs Enforcement; 500 12th Street SW., Washington, DC 20536-5600; (703) 603-3400. This is not a toll-free number. Program information can be found at http://www.ice.gov/sevis/.

SUPPLEMENTARY INFORMATION:

What action is DHS taking under this notice?

The Secretary of Homeland Security is exercising his authority under 8 CFR 214.2(f)(9) to extend the temporary suspension of certain requirements governing on-campus and off-campus employment for F-1 nonimmigrant students whose country of citizenship is Nepal and who are experiencing severe economic hardship as a direct result of the earthquake in Nepal on April 25, 2015. See 80 FR 69237 (Nov. 9, 2015). The original notice was effective from November 9, 2015, until December 24, 2016. Effective with this publication, suspension of the requirements is extended for 18 months, from December 24, 2016, through June 24, 2018.

F-1 nonimmigrant students granted employment authorization through the notice will continue to be deemed to be engaged in a “full course of study” for the duration of their employment authorization provided they satisfy the minimum course load requirement described in 80 FR 69237. See 8 CFR 214.2(f)(6)(i)(F).

Who is covered under this action?

This notice applies exclusively to F-1 nonimmigrant students who meet all of the following conditions: (1) Are lawful citizens of Nepal; (2) Were lawfully present in the United States in F-1 nonimmigrant status on April 25, 2015, under section 101(a)(15)(F)(i) of the Immigration and Nationality Act (INA), 8 U.S.C. 1101(a)(15)(F)(i); (3) Are enrolled in a school that is Student and Exchange Visitor Program (SEVP)-certified for enrollment of F-1 students; (4) Are currently maintaining F-1 status; and (5) Are experiencing severe economic hardship as a direct result of the damage caused by the earthquake in Nepal of April 25, 2015.

This notice applies to both undergraduate and graduate students, as well as elementary school, middle school, and high school students. The notice, however, applies differently to elementary school, middle school, and high school students (see the discussion published at 80 FR 69239 in the question, “Does this notice apply to elementary school, middle school, and high school students in F-1 status?”).

F-1 students covered by this notice who transfer to other academic institutions that are SEVP-certified for enrollment of F-1 students remain eligible for the relief provided by means of this notice.

Why is DHS taking this action?

The Department of Homeland Security (DHS) took action to provide temporary relief to F-1 nonimmigrant students whose country of citizenship is Nepal and experienced severe economic hardship as a direct result of the earthquake in Nepal in April 2015. See 80 FR 69237. It enabled these F-1 students to obtain employment authorization, work an increased number of hours while school was in session, and reduce their course load while continuing to maintain their F-1 student status.

Nepal continues to recover from the magnitude 7.8 earthquake that struck the country on April 25, 2015. The earthquake affected more than 8 million people in Nepal, approximately 25 percent to 33 percent of Nepal's population, and damaged critical infrastructure in the country. While conditions have improved in the past 18 months, blockades along the border with India and civil unrest have delayed Nepal's reconstruction efforts.

As of August 11, 2016, 12,189 F-1 students from Nepal were enrolled in courses in U.S. schools. Given the current conditions in Nepal, affected students whose primary means of financial support come from Nepal may need to be exempt from the normal student employment requirements to be able to continue their studies in the United States. The widespread disaster and delayed recovery in Nepal have made it unfeasible for many students to safely return to the country. Without employment authorization, these students may lack the means to meet basic living expenses.

The United States is committed to continuing to assist the people of Nepal. DHS is therefore extending this employment authorization for F-1 nonimmigrant students whose country of citizenship is Nepal and who are continuing to experience severe economic hardship as a result of the earthquake in April 2015.

How do I apply for an employment authorization under the circumstances of this notice?

F-1 nonimmigrant students whose country of citizenship is Nepal who were lawfully present in the United States on April 25, 2015, and are experiencing severe economic hardship as a direct result of the earthquake may apply for employment authorization under the guidelines described in 80 FR 69237. This notice extends the time period during which such F-1 students may seek employment authorization due to the earthquake. It does not impose any new or additional policies or procedures beyond those listed in the original notice. All interested F-1 students should follow the instructions listed in the original notice.

Jeh Charles Johnson,
Secretary.

[FR Doc. 2016-31158 Filed 12-23-16; 8:45 am]

BILLING CODE 4410-10-P